DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 22, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 3, 2016.
Roy E. Wright,
Deputy Associate Administrator for Insurance and Mitigation, Department of Homeland Security, Federal Emergency Management Agency.

I. Watershed-Based Studies

Harpeth Watershed
Community | Community map repository address
Cheatham County, Tennessee and Incorporated Areas
Docket No.: FEMA-B-1457
Town of Kingston Springs | Town Hall, 396 Spring Street, Kingston Springs, TN 37082.
Town of Pegram | Town Hall, 308 Highway 70, Pegram, TN 37143.
Unincorporated Areas of Cheatham County | Cheatham County Floodplain Administrator's Office, 264 South Main Street, Ashland City, TN 37015.
Dickson County, Tennessee and Incorporated Areas
Docket No.: FEMA-B-1457
Unincorporated Areas of Dickson County | Dickson County Director of Planning and Zoning, 4 Court Square, Charlotte, TN 37036.
Williamson County, Tennessee and Incorporated Areas
Docket No.: FEMA-B-1457
City of Brentwood | City Hall, 5211 Maryland Way, Brentwood, TN 37027.
City of Fairview | City Hall, 7100 City Center Circle, Fairview, TN 37062.
City of Franklin | City Hall, Code Department, 109 3rd Avenue South, Franklin, TN 37064.
Unincorporated Areas of Williamson County | Williamson County Complex, Planning Department, 1320 West Main Street, Suite 125, Franklin, TN 37064.

II. Non-Watershed-Based Studies

Community | Community map repository address
Polk County, Florida and Incorporated Areas
Docket No.: FEMA-B-1521
City of Auburndale | City Hall, 1 Bobby Green Plaza, Auburndale, FL 33823.
City of Bartow | City Hall, Building Department, 450 North Wilson Avenue, Bartow, FL 33830.
City of Davenport | City Hall, 1 South Allapaha Avenue, Davenport, FL 33837.
City of Eagle Lake | City Hall, 75 North 7th Street, Eagle Lake, FL 33839.
City of Fort Meade | Building Department, 521 Northwest 4th Street, Fort Meade, FL 33841.
City of Frostproof | City Hall, 111 West 1st Street, Frostproof, FL 33843.
City of Haines City | City Hall, 620 East Main Street, Haines City, FL 33844.
City of Lake Alfred | Building Department, 120 East Pomelo Street, Lake Alfred, FL 33850.
City of Lake Wales | Municipal Administration Building, 201 West Central Avenue, Lake Wales, FL 33853.
City of Lakeland | City Hall, 228 South Massachusetts Avenue, Lakeland, FL 33801.
City of Mulberry | City Hall, 104 South Church Avenue, Mulberry, FL 33860.
City of Polk City | City Hall, 123 Broadway Boulevard Southeast, Polk City, FL 33868.
City of Winter Haven | City Hall, 451 3rd Street Northwest, Winter Haven, FL 33881.
Town of Dundee | Town Hall, 202 East Main Street, Dundee, FL 33838.
Town of Hillcrest Heights | Hillcrest Heights Town Hall, 151 North Scenic Highway, Babson Park, FL 33827.
Town of Lake Hamilton | Town Hall, 100 Smith Avenue, Lake Hamilton, FL 33851.
Unincorporated Areas of Polk County | Polk County Engineering Division, 330 West Church Street, Bartow, FL 33830.
Village of Highland Park | Polk County Engineering Division, 330 West Church Street, Bartow, FL 33830.
Sedgwick County, Kansas and Incorporated Areas
Docket No.: FEMA-B-1511
City of Andale | Sedgwick County Metropolitan Area Building and Construction Department, 1144 South Seneca Street, Wichita, KS 67213.
City of Bel Aire | City Hall, 7651 East Central Park Avenue, Bel Aire, KS 67226.
City of Bentley | Sedgwick County Metropolitan Area Building and Construction Department, 1144 South Seneca Street, Wichita, KS 67213.
City of Cheney | City Hall, 131 North Main Street, Cheney, KS 67025.
City of Clearwater | City Hall, 129 East Ross Avenue, Clearwater, KS 67026.
City of Colwich | City Hall, 310 South 2nd Street, Colwich, KS 67030.
City of Derby | City Hall, 611 Mulberry Street, Suite 300, Derby, KS 67037.
City of Eastborough | City Hall, 1 Douglas Avenue, Eastborough, KS 67207.
City of Garden Plain | City Hall, 505 North Main Street, Garden Plain, KS 67050.
City of Goddard | City Hall, 118 North Main Street, Goddard, KS 67052.
City of Haysville | Planning Department, 200 West Grand Street, Haysville, KS 67060.
City of Kechi | City Hall, 220 West Kechi Road, Kechi, KS 67067.
City of Maize | City Hall, 10100 West Grady Avenue, Maize, KS 67101.
City of Mount Hope | City Hall, 112 West Main Street, Mount Hope, KS 67108.
City of Mulvane | City Hall, 211 North 2nd Street, Mulvane, KS 67110.
City of Park City | Economic Development & Planning, 6110 North Hydraulic Street, Park City, KS 67219.
City of Valley Center | City Hall, 121 South Meridian Avenue, Valley Center, KS 67147.
City of Viola | City Hall, 121 South Main Street, Viola, KS 67149.
City of Wichita | Office of Storm Water Management, 455 North Main Street, 8th Floor, Wichita, KS 67202.
Unincorporated Areas of Sedgwick County | Sedgwick County Metropolitan Area Building and Construction Department, 1144 South Seneca Street, Wichita, KS 67213.
Carson City, Nevada (Independent City)
Docket No.: FEMA-B-1540
City of Carson City | Carson City Permit Center, 108 East Proctor Street, Carson City, NV 89701.
McKean County, Pennsylvania (All Jurisdictions)
Docket No.: FEMA-B-1536
Borough of Eldred | Borough Building, 3 Bennett Street, Eldred, PA 16731.
Borough of Lewis Run | Borough Office, 60 Main Street, Lewis Run, PA 16738.
Borough of Port Allegany | Borough Hall, 45 West Maple Street, Port Allegany, PA 16743.
Borough of Smethport | Borough Hall, 201 West Main Street, Smethport, PA 16749.
City of Bradford | City Hall, 24 Kennedy Street, Bradford, PA 16701.
Township of Annin | Annin Township Building, 67 Railroad Avenue, Turtlepoint, PA 16750.
Township of Bradford | Municipal Building, 136 Hemlock Street, Bradford, PA 16701.
Township of Ceres | Ceres Township Building, 12 Barbertown Road, Eldred, PA 16731.
Township of Corydon | Corydon Township Municipal Building, 2474 West Washington Street, Bradford, PA 16701.
Township of Eldred | Township Supervisors' Building, 1834 West Eldred Road, Eldred, PA 16731.
Township of Foster | Foster Township Municipal Building, 1185 East Main Street, Bradford, PA 16701.
Township of Hamilton | Hamilton Township Municipal Building, 2 Curtis Road, Ludlow, PA 16333.
Township of Hamlin | Hamlin Township Municipal Building, 22 Park Road, Hazel Hurst, PA 16733.
Township of Keating | Keating Township Building, 7160 Route 46, Smethport, PA 16749.
Township of Lafayette | Lafayette Township Hall, 7534 Route 59, Lewis Run, PA 16738.
Township of Liberty | Liberty Township Building, 4859 Route 155, Port Allegany, PA 16743.
Township of Norwich | Norwich Township Garage, 3853 West Valley Road, Smethport, PA 16749.
Township of Otto | Otto Township Office, 695 Main Street, Duke Center, PA 16729.
Township of Sergeant | Clermont Fire Department, 14183 Wilcox Road, Mount Jewett, PA 16740.
Township of Wetmore | Wetmore Township Hall, 318 Spring Street, Kane, PA 16735.

[FR Doc. 2016-19659 Filed 8-17-16; 8:45 am]

BILLING CODE 9110-12-P